DEPARTMENT OF COMMERCE

Economic Development Administration

[Docket No. 991215339-3300-09]

University Center (UC) Program

AGENCY: Economic Development Administration (EDA), Department of Commerce (DOC).

ACTION: Supplemental notice and request for proposals.

SUMMARY: EDA's Austin regional office will hold a teleconference on May 6 to answer questions about its FY 2004 competition for University Center funding, which is open to colleges and universities in Arkansas, Louisiana, New Mexico, Oklahoma and Texas. EDA's Denver regional office will hold a teleconference on May 10 to answer questions about its FY 2004 competition for University Center funding, which is open to colleges and universities in Colorado, Iowa, Kansas, Missouri, Montana, Nebraska, North Dakota, South Dakota, Utah and Wyoming. Notice of this competition was published in the Federal Register on April 15, 2004.

DATES: Austin regional office teleconference: May 6, 2004, 10 a.m.-12 p.m. (central time). Please register for this call by sending an e-mail to ttijerina@eda.doc.gov no later than May 4 to insure there are sufficient incoming lines for this call.

Denver regional office teleconference: May 10, 2004, 9 a.m.-11 a.m. (mountain time). Please register for this call by sending an e-mail to tyarkosky@eda.doc.gov no later than May 6 to insure there are sufficient incoming lines for this call.

FOR FURTHER INFORMATION CONTACT: The Federal Funding Opportunity announcement for this request for proposals is available on the http://www.grants.gov Web site, as well as EDA's Web site, http://www.eda.gov. For questions about these calls, please contact Tozi Tijerina in the Austin regional office at 512-381-8157 or Terri Yarkosky in the Denver regional office at 303-844-4717.

SUPPLEMENTARY INFORMATION: EDA is soliciting competition proposals for FY 2004 University Center funding in the areas served by its Denver and Austin regional offices (69 FR 19973, April 15, 2004). EDA's mission is to help our partners across the Nation create wealth and minimize poverty by promoting a favorable business involvement to attract private capital investment and higher-skill, higher-wage jobs through world-class capacity-building, planning, infrastructure, research grants and strategic initiatives. With funding from EDA, institutions of higher education establish and operate University Centers, which provide technical assistance to public and private sector organizations with the goal of enhancing local economic development. EDA has traditionally renewed an award to a University Center on an annual basis as long as it maintained a satisfactory level of performance and Congress appropriated funds for the program. With the competition announced in this notice for University Centers in the regions served by EDA's Austin and Denver regional offices, EDA is beginning to phase in competition for University Center funding. EDA's Austin regional office will hold a teleconference on May 6 and EDA's Denver regional office will hold a teleconference on May 10.

Telephone Numbers: Austin regional office call: 1-888-396-9925. The passcode is EDA. (Callers may need to provide the name of the host, Tozi Tijerina, and her telephone number, 512-381-8157.)

Denver regional office call: 1-877-709-5339. The passcode is 10529.

David Bearden,
Deputy Assistant Secretary for Economic Development.

[FR Doc. 04-9229 Filed 4-22-04; 8:45 am]

BILLING CODE 3510-24-P